DEPARTMENT OF LABOR

Office of the Secretary

Submission for OMB Emergency Review: Comment Request

December 24, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by December 31, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—EBSA, Office of Management and Budget, Room 10235, Washington, DC 20503, Telephone: 202-395-7316/Fax: 202-395-6974 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

Agency: Employee Benefits Security Administration.

Title of Collection: Notice Requirements of the Health Care Continuation Coverage—American Recovery and Reinvestment Act of 2009 Revision.

OMB Control Number: 1210-0123.

Frequency of Collection: On occasion.

Affected Public: Individuals or households; Business or other for-profit; Not-for-profit institutions.

Total Estimated Number of Respondents: 2.7 million.

Total Estimated Number of Responses: 8.5 million

Total Estimated Annual Burden Hours: 0.

Total Net Estimated Annual Costs Burden (other than hourly costs): $6.8 million.

Description: On December 19, 2009, President Obama signed the Department of Defense Appropriations Act of 2010 (Pub. L. 111-118), which extends the availability of the health care continuation coverage premium reduction provided for COBRA and other health care continuation coverage as required by the American Recovery and Reinvestment Act (ARRA) of 2009 (Pub. L. 111-5). Assistance eligible individuals now can be eligible for the subsidy if they incur an involuntary termination of employment triggering a COBRA election opportunity by February 28, 2010. Before the extension, Assistance Eligible Individuals had to experience an involuntary termination of employment by December 31, 2009. The length of the premium assistance period also is extended from 9 months to 15 months.

ARRA, as amended, retained the requirement that the Secretary of Labor (the Secretary), in consultation with the Secretaries of the Treasury and Health and Human Services, develop model notices. These models are for use by group health plans and other entities that, pursuant to ARRA, as amended, must provide notices of the availability of premium reductions and additional election periods for health care continuation coverage. The ICR relates to the issuance of the model notices.

Why are we requesting Emergency Processing? If the Department were required to comply with standard PRA clearance procedures, it would not be able to publish the model notices on a timely basis.

Dated: December 24, 2009.
Joseph S. Piacentini,
Acting PRA Clearance Officer.

[FR Doc. E9-30995 Filed 12-30-09; 8:45 am]

BILLING CODE 4510-29-P